DEPARTMENT OF THE INTERIOR

Fish and Wildlife Service

Record of Decision for the Bair Island Restoration and Management Plan and a Final Environmental Impact Statement/Environmental Impact Report, Don Edwards San Francisco Bay National Wildlife Refuge and the Bair Island State Ecological Reserve, San Mateo County, CA

AGENCY: Fish and Wildlife Service, Interior.

ACTION: Notice of availability.

SUMMARY: The U.S. Fish and Wildlife Service (Service) announces the decision and availability of the Record of Decision (ROD) for the Bair Island Restoration and Management Plan and Environmental Impact Statement (EIS) for the Don Edwards San Francisco Bay National Wildlife Refuge. A thorough analysis of the environmental, social, and economic considerations was completed and presented in the Final EIS. The Final EIS was released to the public and a Notice of Availability was published in the Federal Register on July 28, 2006. The ROD documents the Service's decision to adopt and implement Alternative 1, Tidal Marsh Restoration with Moderate Public Access for the Bair Island Restoration and Management Plan.

DATES: The ROD was signed by the Acting Manager, California/Nevada Operations, U.S. Fish and Wildlife Service on May 22, 2007.

ADDRESSES: A copy of the ROD may be obtained by writing to: Clyde Morris, Manager, Don Edwards San Francisco Bay National Wildlife Refuge, 9500 Thornton Avenue, Newark, California 94560 or by e-mailing clyde_morris@fws.gov. A copy of the Final ROD and EIS is available at the following Web site address: http://southbayrestoration.org/bair.

FOR FURTHER INFORMATION CONTACT: Clyde Morris, Refuge Manager, at the above street and e-mail address or via telephone at (510) 792-0222 extension 25, or by fax at (510) 792-5828.

SUPPLEMENTARY INFORMATION: Bair Island is a 3,000 acre former commercial salt pond complex on San Francisco Bay in Redwood City, California. The U.S. Fish and Wildlife Service (Service) and the California Department of Fish and Game are preparing to restore and manage the 1,400 acres of Bair Island that are still contained within the former salt pond levees to tidal wetlands.

The Bair Island Complex is divided into three distinct areas separated by slough channels: Inner, Middle, and Outer Bair. Inner Bair Island is connected to the mainland with access from Whipple Avenue and U.S. Highway 101. Inner Bair Island is separated from Middle Bair by Smith Slough, which is separated from Outer Bair by Corkscrew Slough.

Historically, Bair Island was part of a large complex of tidal marshes and mud flats within the drainage of San Francisco Bay, Redwood Creek and Steinberger Slough. Bair Island was diked in the late 1800's and early 1900's for agricultural purposes. It was converted to commercial salt ponds in 1946 and remained in production until 1965. The lands were then drained and sold to a series of real estate development companies. A local referendum in the City of Redwood City halted development plans for Bair Island. The California Department of Fish and Game (CDFG) and the Don Edwards San Francisco Bay National Wildlife Refuge (Refuge) both acquired portions of Bair Island over time. The Peninsula Open Space Trust purchased the majority of the remaining portions of Bair Island in 1999 and their interests were acquired by these agencies.

Five alternatives for restoration and management of Bair Island and the consequences of implementing each alternative were described in detail in the Draft and Final EIS. The Draft EIS was distributed on August 27, 2004 and a public meeting to accept comments on the draft document was held on September 22, 2004. The Service received 31 comment letters from organizations or individuals. All substantive issues raised in these comments were addressed through changes incorporated into the Final Bair Island Restoration and Management Plan and EIS and/or through responses to the comments, which are included in the Final EIS.

The ROD for the Bair Island Restoration and Management Plan has been prepared by the Service in compliance with the National Environmental Policy Act of 1969 (NEPA), as amended. It documents the decision of the Service, based on the information contained in the Final Bair Island Restoration and Management Plan EIS and the entire Administrative Record. The Service adopted and plans to implement Alternative 1, Tidal Marsh Restoration with Moderate Public Access. This alternative has been identified by the Service as the alternative that would best achieve the goal of the restoration plan, the refuge purposes, and contribute toward the mission of the National Wildlife Refuge System, consistent with sound principles of fish and wildlife science, conservation, legal mandates, and Service policies. The selected alternative would restore Bair Island to a tidal salt marsh to provide habitat for endangered species and other native wildlife as well as to enhance the public's appreciation and awareness of the unique resources at Bair Island. Once restored, the site will assist with the preservation and recovery of both the California clapper rail and the salt marsh harvest mouse. These two species were listed by the Fish and Wildlife Service as endangered species on October 13, 1970.

The restoration of Bair Island would take place in phases. The first phase would be breaching of Outer Bair Island at two locations on Steinberger Slough near its entrance to San Francisco Bay. The second phase would be restoration of Inner and Middle Bair Island by breaching their former commercial salt pond levees after constructing a flow restrictor in Corkscrew Slough and reestablishing the historic meander of Smith Slough on Inner Bair Island. Dredge and/or fill material would raise the bottom elevation of Inner Bair Island to quicken the establishment of vegetated marsh. The third phase, which could take place during or after the first two phases, would be the construction of wildlife oriented public use facilities on Inner Bair Island and a portage with wildlife viewing platform on Outer Bair Island. Inner Bair Island improvements would include a new pedestrian bridge from the existing Refuge parking lot, a 1.8 mile public trail, and two wildlife viewing platforms with interpretive signage.

The Service considered the environmental and relevant concerns presented by agencies, organizations, and individuals and believes that implementing Alternative 1 is the best way to achieve the vision and goals of the restoration project. The selected alternative is also the most consistent with the purposes of the Refuge, the mission of the National Wildlife Refuge System, and the recovery actions proposed for the federally listed species found in the area. This alternative recognizes the need to restore habitat essential to the recovery of listed species as well as other tidal wetland dependent native species. The selected alterative also includes appropriate types and levels of recreational access for the public to experience and enjoy the resources being protected.

Dated: June 7, 2007.
Ken McDermond,
Deputy Manager, California/Nevada Operations Office, Sacramento, California.

[FR Doc. E7-11392 Filed 6-12-07; 8:45 am]

BILLING CODE 4310-55-P